DEPARTMENT OF THE INTERIOR

Bureau of Ocean Energy Management, Regulation and Enforcement

[Docket ID No. BOEM-2010-0055]

BOEMRE Information Collection Activity: 1010-0149, Platforms and Structures, Extension of a Collection; Comment Request

AGENCY: Bureau of Ocean Energy Management, Regulation and Enforcement (BOEMRE), Interior.

ACTION: Notice of a renewal of an information collection (1010-0149).

SUMMARY: To comply with the Paperwork Reduction Act of 1995 (PRA), BOEMRE is inviting comments on a collection of information that we will submit to the Office of Management and Budget (OMB) for review and approval. The information collection request (ICR) concerns the paperwork requirements in the regulations under 30 CFR 250, Subpart I, “Platforms and Structures.”

DATES: Submit written comments by January 10, 2011.

FOR FURTHER INFORMATION CONTACT: Cheryl Blundon, Regulations and Standards Branch at (703) 787-1607. You may also contact Cheryl Blundon to obtain a copy, at no cost, of the regulations that require the subject collection of information.

ADDRESSES: You may submit comments by either of the following methods listed below.

• Electronically: go to http://www.regulations.gov. In the entry titled “Enter Keyword or ID,” enter BOEM-2010-0055 then click search. Follow the instructions to submit public comments and view supporting and related materials available for this collection. BOEMRE will post all comments.

• E-mail: cheryl.blundon@boemre.gov. Mail or hand-carry comments to the Department of the Interior; Bureau of Ocean Energy Management, Regulation and Enforcement; Attention: Cheryl Blundon; 381 Elden Street, MS-4024; Herndon, Virginia 20170-4817. Please reference ICR 1010-0149 in your comment and include your name and return address.

SUPPLEMENTARY INFORMATION:

Title: 30 CFR 250, Subpart I, Platforms and Structures.

OMB Control Number: 1010-0149.

Abstract: The Outer Continental Shelf (OCS) Lands Act, as amended (43 U.S.C. 1331 et seq. and 43 U.S.C. 1801 et seq.), authorizes the Secretary of the Interior (Secretary) to prescribe rules and regulations to manage the mineral resources of the OCS. Such rules and regulations will apply to all operations conducted under a lease, right-of-use and easement, and pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 43 U.S.C. 1356 requires the issuance of “* * * regulations which require that any vessel, rig, platform, or other vehicle or structure * * * (2) which is used for activities pursuant to this subchapter, comply * * * with such minimum standards of design, construction, alteration, and repair as the Secretary * * * establishes * * * .” Section 43 U.S.C. 1332(6) also states, “operations in the [O]uter Continental Shelf should be conducted in a safe manner * * * to prevent or minimize the likelihood of * * * physical obstruction to other users of the water or subsoil and seabed, or other occurrences which may cause damage to the environment or to property, or endanger life or health.”

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's (DOI) implementing policy, BOEMRE is required to charge fees for services that provide special benefits or privileges to an identifiable non-Federal recipient above and beyond those that accrue to the public at large. Platform applications are subject to cost recovery, and BOEMRE regulations specify service fees for these requests.

These authorities and responsibilities are among those delegated to BOEMRE to ensure that operations in the OCS will meet statutory requirements; provide for safety and protection of the environment; and result in diligent exploration, development, and production of OCS leases. This ICR addresses the regulations at 30 CFR 250, Subpart I, Platforms and Structures, and the associated supplementary notices to lessees and operators (NTLs) intended to provide clarification, description, or explanation of these regulations.

Regulations at 30 CFR 250 implement these statutory requirements. We use the information submitted under Subpart I to determine the structural integrity of all offshore platforms and floating production facilities and to ensure that such integrity will be maintained throughout the useful life of these structures. We use the information to ascertain, on a case-by-case basis, that the fixed and floating platforms and structures are structurally sound and safe for their intended use to ensure safety of personnel and pollution prevention. More specifically, the information is used to:

• Review data concerning damage to a platform to assess the adequacy of proposed repairs.

• Review plans for platform construction (construction is divided into three phases-design, fabrication, and installation) to ensure the structural integrity of the platform.

• Review verification plans and reports for unique platforms to ensure that all nonstandard situations are given proper consideration during the design, fabrication, and installation phases of platform construction.

• Review platform design, fabrication, and installation records to ensure that the platform is constructed according to approved plans.

• Review inspection reports to ensure that platform integrity is maintained for the life of the platform.

We will protect information from respondents considered proprietary under the Freedom of Information Act (5 U.S.C. 552) and its implementing regulations (43 CFR part 2) and under regulations at 30 CFR 250.197, Data and information to be made available to the public or for limited inspection. No items of a sensitive nature are collected. Responses are mandatory.

Frequency: On occasion, annual.

Description of Respondents: Potential respondents comprise Federal oil, gas, or sulphur lessees and/or operators, their certified verification agents (CVAs), and third-party reviewers.

Estimated Reporting and Recordkeeping Hour Burden: The currently approved annual reporting burden for this collection is 108,933 hours. The following chart details the individual components and respective hour burden estimates of this ICR. In calculating the burdens, we assumed that respondents perform certain requirements in the normal course of their activities. We consider these to be usual and customary and took that into account in estimating the burden.

Citation: 30 CFR 250 Subpart I and related NTLs | Reporting and/or recordkeeping requirement | Hour burden: Non-hour cost burdens
General Requirements for Platforms
900(b), (c), (e); 901(b); 905; 906; 910(c), (d); 911(c), (g); 912; 913; 919 | Submit application, along with reports/surveys and relevant data, to install new platform or floating production facility or conversion of existing platform for new purpose or significant changes to approved applications, including use of alternative codes, rules, or standards; CVA changes; pay.gov confirmation receipt; and Platform Verification Program (PVP) plan for design, fabrication and installation of new, fixed, bottom-founded, pile-supported, or concrete-gravity platforms and new floating platforms. Consult as required with BOEMRE and/or USCG. Re/Submit application for major modification(s)/repairs to any platform; pay.gov confirmation receipt; and related requirements | 60. $21,075 PVP. $3,018 fixed structure. $1,536 caisson/well protector. $3,601 modifications.
900(b)(5) | Submit application for conversion of the use of an existing mobile offshore drilling unit | 24.
900(c) | Notify BOEMRE within 24 hours of damage and emergency repairs and request approval of repairs | 16.
900(e) | Re/Submit platform installation date and the final as-built location to the Regional Supervisor within 45 days after platform installation | .5.
901(a); NTLs | Submit CVA documentation under API RP 2RD, API RP 2SK, and API RP 2SM | 100.
901(a); NTLs | Submit hazards analysis documentation under API RP 14J | 600.
903* | Record original and relevant material test results of all primary structural materials; retain records during all stages of construction. Compile, retain, and provide location/make available to BOEMRE for the functional life of platform, the as-built drawings, design assumptions/analyses, summary of nondestructive examination records, inspection results, and records of repair not covered elsewhere | 100.
903(c); 905(k) | Submit certification statement [a certification statement is not considered information collection under 5 CFR 1320.3(h)(1); the burden is for the insertion of the location of the records on the statement and the submittal to BOEMRE—this statement submitted with the application] | 0.
905(i) | Provide a summary of safety factors utilized in the design of the platform | .25.
Platform Verification Program
911(d); 916(c); 917(c); 918(c) | Submit complete schedule of all phases of design, fabrication, and installation with required information; also submit Gantt Chart with required information | 40.
911(e); 914 | Submit nomination; qualification statement and required documentation for CVA | 16.
912(a) | Submit design verification plans with your DPP or DOCD | Burden covered under 1010-0151.
916(c) | Submit interim and final CVA reports and recommendations on design phase | 200.
917(a), (c) | Submit interim and final CVA reports and recommendations on fabrication phase, including notices to BOEMRE and operator/lessee of fabrication procedure changes or design specification modifications | 100.
918(c) | Submit interim and final CVA reports and recommendations on installation phase | 60.
919(a) | Develop in-service inspection plan and keep on file | 50.
919(a) | Submit annual (November 1 of each year) report on inspection of platforms or floating production facilities, including summary of testing results | 80.
919(b) NTL | After an environmental event, submit to Regional Supervisor initial report followed by updates and supporting information | 12 (initial) 12 (update).
919(c) NTL | Submit results of inspections | 120.
920(a) | Demonstrate platform is able to withstand environmental loadings for appropriate exposure category | 20.
920(c) | Submit application and obtain approval from the Regional Supervisor for mitigation actions (includes operational procedures) | 40.
920(e) | Submit a list of all platforms you operate, and appropriate supporting data, every 5 years or as directed by the Regional Supervisor | 40.
920(f) | Obtain approval from the Regional Supervisor for any change in the platform | 40.
900 thru 921 | General departure and alternative compliance requests not specifically covered elsewhere in Subpart I regulations | 10.

Estimated Reporting and Recordkeeping Non-Hour Cost Burden: We have identified four non-hour paperwork cost burdens for this collection. These costs are submitted with specific applications under § 250.905(l) and are as follows: $21,075 for a platform verification program, $3,018 for a fixed structure, $1,536 for a Caisson/Well Protector, and $3,601 for a modification.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour paperwork cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: November 1, 2010.
Doug Slitor,
Acting Chief, Office of Offshore Regulatory Programs.

[FR Doc. 2010-28278 Filed 11-8-10; 8:45 am]

BILLING CODE 4310-MR-P